DEPARTMENT OF HOMELAND SECURITY

Federal Emergency Management Agency

[Docket ID FEMA-2010-0047]

Agency Information Collection Activities: Submission for OMB Review; Comment Request, OMB No. 1660-0047; Request for Federal Assistance Form—How To Process Mission Assignments in Federal Disaster Operations

AGENCY: Federal Emergency Management Agency, DHS.

ACTION: Notice; 30-day notice and request for comments; revision of a currently approved information collection; OMB No. 1660-0047; FEMA Form 010-0-7, Action Request Form; FEMA Form 010-0-8, Mission Assignment.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before December 27, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Request for Federal Assistance Form—How To Process Mission Assignments in Federal Disaster Operations.

Type of information collection: Revision of a currently approved information collection.

OMB Number: 1660-0047.

Form Titles and Numbers: FEMA Form 010-0-7, Action Request Form; FEMA Form 010-0-8, Mission Assignment.

Abstract: In the event of a disaster, a State will determine the necessary resources needed, and request Federal assistance to get resources that exceed a State's capability to respond. The forms used in this collection of information are used to provide acknowledgement that tasks are being requested from States and verify all mission functions, and outline the work to be performed. FEMA reviews this information and can task other Federal Agencies with a mission assignment to assist the State in its response to the situation.

Affected Public: State, local or Tribal Government.

Estimated Number of Respondents: 10.

Frequency of Response: On occasion.

Estimated Average Hour Burden per Respondent: FEMA Form 010-0-7, 20 minutes; FEMA Form 010-0-8, 3 minutes.

Estimated Total Annual Burden Hours: 2,453 hours. The estimated total annual burden hours has changed since publication of the 60-day Federal Register Notice at 75 FR 52770, August 27, 2010.

Estimated Cost: There are no operation and maintenance, or capital and start-up costs associated with this collection of information.

Dated: November 16, 2010.
Lesia M. Banks,
Director, Records Management Division, Mission Support Bureau, Federal Emergency Management Agency, Department of Homeland Security.

[FR Doc. 2010-29568 Filed 11-23-10; 8:45 am]

BILLING CODE 9111- 24-P